DEPARTMENT OF DEFENSE

Office of the Secretary

32 CFR Part 283

[DOD-2006-OS-133]

RIN 0790-AG90

Waiver of Debts Resulting From Erroneous Payments of Pay and Allowances

AGENCY: Department of Defense.

ACTION: Final rule.

SUMMARY: This rule identifies policy and assigns responsibilities for considering applications for the waiver of debts resulting from erroneous payments of pay and allowances (including travel and transportation allowances) to or on behalf of members of the Uniformed Services and civilian Department of Defense (DoD) employees. The Legislative Branch Appropriations Act of 1996 transferred to the Director of the Office of Management and Budget (OMB) the Comptroller General's authority to settle claims. The OMB Director subsequently delegated some of these authorities to the Department of Defense. Later, the General Accounting Office Act of 1996 codified many of these delegations to the Secretary of Defense and others and transferred to the OMB Director the authority of the Comptroller General to waive uniformed service member and employee debts arising out of the erroneous payment of pay or allowances exceeding $1,500. The OMB Director subsequently delegated the authority to waive such debts of uniformed service members and DoD employees to the Secretary of Defense. The Secretary of Defense further delegated his claims settlement and waiver authorities to the General Counsel. This rule implements the reassignment of the Comptroller General's former duties within the Department of Defense with little impact on the public.

On Thursday, November 14, 2002, the Department of Defense published appropriate proposed rules with request for public comments. Formatting and editorial changes were made to create this final document, including acknowledging that the Coast Guard is now part of the Department of Homeland Security rather than the Department of Transportation. Although these changes were made in 2003, a decision was made at that time to hold publication of these regulations so accompanying rules would be published at the same time. Addressing internal comments and coordinating numerous editorial changes throughout the Department of Defense on the accompanying rulemaking took until 2006.

DATES: Effective Date: September 29, 2006.

FOR FURTHER INFORMATION CONTACT: Michael Hipple, 703-696-8510.

SUPPLEMENTARY INFORMATION: On Thursday, November 14, 2002 (67 FR 68964), the Department of Defense (DoD) published 32 CFR part 283 along with parts 281, 282, and 284 as proposed rules with request for public comments. No public comments were received on part 283. Formatting and editorial changes were made to create this final document. A decision was made in 2003 to publish the final rules for parts 283 and 284 at the same time. Addressing internal comments and coordinating numerous editorial changes throughout the Department of Defense on part 284 took until 2006.

Executive Order 12866, “Regulatory Planning and Review”

It has been determined that 32 CFR part 283 is not economically significant regulatory actions and will not significantly affect a substantial number of small entities.

Unfunded Mandates Reform Act (Sec. 202, Pub. L. 104-4)

It has been certified that 32 CFR part 283 does not contain a Federal mandate that may result in the expenditure by State, local and tribal governments, in aggregate, or by the private sector, of $100 million or more in any one year.

Public Law 96-354, “Regulatory Flexibility Act” (5 U.S.C. 601)

It has been certified that 32 CFR part 283 is not subject to the “Regulatory Flexibility Act” (5 U.S.C. 601) because, if promulgated, they would not have a significant economic impact on a substantial number of small entities. These rules affect members of the Uniformed Services, Federal employees and transportation carriers. 32 CFR part 283 establishes policies and provide procedures for considering applications for waiver of debts resulting from erroneous pay and allowances to or on behalf of members and civilian DoD employees.

Public Law 96-511, “Paperwork Reduction Act” (44 U.S.C. Chapter 35)

It has been certified that these parts do not impose any reporting or recordkeeping requirements under the Paperwork Reduction Act of 1995.

Executive Order 13132, “Federalism”

It has been certified that these parts do not have federalism implications, as set forth in Executive Order 13132. These parts do not have substantial direct effects on: the States; The relationship between the National Government and the States; or the distribution of power and responsibilities among various levels of government.

List of Subjects in 32 CFR Part 283

Administrative practice and procedure, Armed Forces, Waivers.

Accordingly, 32 CFR part 283 is added to read as follows:

PART 283—WAIVER OF DEBTS RESULTING FROM ERRONEOUS PAYMENTS OF PAY AND ALLOWANCES

Sec.
283.1 Purpose.
283.2 Applicability and scope.
283.3 Definitions.
283.4 Policy.
283.5. Responsibilities.

§ 283.1 Purpose.

This part establishes policy and assigns responsibilities for considering applications for the waiver of debts resulting from erroneous payments of pay and allowances (including travel and transportation allowances) to or on behalf of members of the Uniformed Services and civilian DoD employees under 10 U.S.C. 2774, 32 U.S.C. 716, 5 U.S.C. 5584.

§ 283.2 Applicability and scope.

This part applies to:

(a) The Office of the Secretary of Defense, the Military Departments, the Chairman of the Joint Chiefs of Staff, the Combatant Commands, the Office of Inspector General of the Department of Defense, the Defense Agencies, the DoD Field Activities, and all other organizational entities in the Department of Defense (hereafter referred to collectively as the “DoD Components”).

(b) The Coast Guard, when it is not operating as a Service in the Navy under the agreement with the Department of Homeland Security, and the Commissioned Corps of the Public Health Service (PHS) and the National Oceanic and Atmospheric Administration (NOAA) under agreements with the Departments of Health and Human Services and Commerce (hereafter referred to collectively as the “non-DoD Components”).

§ 283.3 Definitions.

Debt. An amount an individual owes the Government as the result of erroneous payments of pay and allowances (including travel and transportation allowances) to or on behalf of members of the Uniformed Services or civilian DoD employees.

Erroneous Payment. A payment that is not in strict conformity with applicable laws or regulations.

Uniformed Services. The Army, the Navy, the Air Force, the Marine Corps, the Coast Guard, and the Commissioned Corps of the PHS and the NOAA.

Waiver Application. A request that the United States relinquishes its claim against an individual for a debt resulting from erroneous payments of pay or allowances (including travel and transportation allowances) under 10 U.S.C. 2774, 32 U.S.C. 716, or 5 U.S.C. 5584.

§ 283.4 Policy.

It is DoD policy that:

(a) The officials designated in this part exercise waiver authority that, by statute or delegation, is vested in the Department of Defense.

(b) Waiver applications shall be processed in accordance with all pertinent statutes and regulations, and after consideration of other relevant authorities.

§ 283.5 Responsibilities.

(a) The General Counsel of the Department of Defense shall:

(1) If the aggregate amount of the debt is more than $1,500, deny or grant all or part of a waiver application.

(2) Decide appeals in accordance with procedures promulgated under paragraph (a)(3) of this section.

(3) Develop overall waiver policies and promulgate procedures for considering waiver applications, including an initial determination process and a process to appeal an initial determination.

(b) The Heads of the DoD Components shall:

(1) Consistent with responsibilities promulgated under paragraph (a)(3) of this section, establish procedures within the DoD Component for the submission of waiver applications relating to debts resulting from the DoD Component's activity, which shall be referred to the appropriate official for consideration as set forth in paragraphs (a), (d), (e), or (f) of this section.

(3) Ensure compliance with this part and policies and procedures promulgated under paragraph (a)(3) of this section.

(c) The Heads of the Non-DoD Components concerning debts resulting from that Component's activity shall:

(1) If the aggregate amount of the debt is $1,500 or less, deny or grant all or part of a waiver application pursuant to 10 U.S.C. 2774.

(2) If the aggregate amount of the debt is more than $1,500:

(i) Deny a waiver application in its entirety; or

(ii) Refer a waiver application for consideration with a recommendation that all or part of the application be granted, in accordance with procedures promulgated under paragraph (a)(3) of this section.

(d) The Under Secretary of Defense (Comptroller)/Chief Financial Officer concerning debts (except those described in paragraphs (e) and (f) of this section) resulting from DoD Component activity shall:

(1) If the aggregate amount of the debt is $1,500 or less, deny or grant all or part of a waiver application pursuant to enclosure 2 of DoD Directive 5118.3.¹

¹ Available at http://www.dtic.mil/whs/directives/.

(2) If the aggregate amount of the debt is more than $1,500:

(i) Deny a waiver application in its entirety; or

(ii) Refer a waiver application for consideration with a recommendation that all or part of the application be granted, in accordance with procedures promulgated under paragraph (a)(3) of this section.

(e) The Director, Department of Defense Education Activity, under the Under Secretary of Defense for Personnel and Readiness concerning debts of civilian employees resulting from that Component's activity shall:

(1) If the aggregate amount of the debt is $1,500 or less, deny or grant all or part of a waiver application pursuant to enclosure 2 of DoD Directive 1342.6.²

² Available at http://www.dtic.mil/whs/directives/.

(2) If the aggregate amount of the debt is more than $1,500:

(i) Deny a waiver application in its entirety; or

(ii) Refer a waiver application for consideration with a recommendation that all or part of the application be granted, in accordance with procedures promulgated under paragraph (a)(3) of this section.

(f) The Director, National Security Agency, under the Under Secretary of Defense for Intelligence concerning debts resulting from that Component's activity shall:

(1) If the aggregate amount of the debt is $1,500 or less, deny or grant all or part of a waiver application.

(2) If the aggregate amount of the debt is more than $1,500:

(i) Deny a waiver application in its entirety; or

(ii) Refer a waiver application for consideration with a recommendation that all or part of the application be granted, in accordance with procedures promulgated under paragraph (a)(3) of this section.

September 25, 2006.
L.M. Bynum,
OSD Federal Register Liaison Officer, DoD.

[FR Doc. E6-16040 Filed 9-28-06; 8:45 am]

BILLING CODE 5001-06-P